DEPARTMENT OF JUSTICE

[OMB Number 1121-NEW]

Agency Information Collection Activities: Proposed Collection; Comments Requested

ACTION: 30-Day Notice of Information Collection Under Review; Proposed New Information Collection Activity; Comment Request, Proposed Project entitled “Violence and Victimization Experiences of Indian Women Living in Tribal Communities.”

The Department of Justice (DOJ), Office of Justice Programs, National Institute of Justice (NIJ), will be submitting the following information collection request to the Office of Management and Budget (OMB) for review and approval in accordance with the Paperwork Reduction Act of 1995. The proposed information collection is published to obtain comments from the public and affected agencies. This proposed information collection was previously published in the Federal Register Volume 76, Number 35, page 9813-9814, on February 22, 2011, allowing for a 60-day comment period.

The purpose of this notice is to allow for an additional 30 days for public comment until May 31, 2011. This process is conducted in accordance with 5 CFR 1320.10.

If you have comments especially on the estimated public burden or associated response time, suggestions, or need a copy of the proposed information collection instrument with instructions or additional information, please contact Christine Crossland, National Institute of Justice, 810 Seventh Street, NW., Washington, DC 20531 (overnight 20001).

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Christine Crossland at 202-616-5166 or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection:

(1) Type of Information Collection: Survey.

(2) The title of the Form/Collection: Violence and Victimization Experiences of Indian Women Living in Tribal Communities Study.

(3) Agency form number, if any, and the applicable component of the Department of Justice sponsoring the collection: National Institute of Justice, Office of Justice Programs, U.S. Department of Justice.

(4) Affected public who will be asked or required to respond, as well as a brief abstract: Primary: American Indian and Alaska Native women living on tribal reservations and in Alaska Native communities who are 18 years or older. Abstract: Violence Against Women Act of 2005, Public Law 109-162, Title IX, Section 904(a) mandates that the United States Department of Justice conduct a comprehensive study of violence against American Indian and Alaska Native women living on tribal reservations and in Alaska Native villages. As part of that program of research, NIJ is undertaking a preliminary study known as the Violence Against Indian Women (VAIW) pilot study, with the following objectives:

(a) Create and pilot test a survey instrument that captures valid, reliable data on the nature and extent of intimate partner violence, sexual violence, and stalking committed against American Indian and Alaska Native women; and

(b) Develop a study methodology, including sampling strategy and data collection approach that enables the safe collection of meaningful, standardized data.

This will be a one-time information collection and is expected to take approximately two months from the time the first participant is enrolled until the last survey is administered. At the end of this project, NIJ will have the knowledge, tools, experience, and methods to coordinate and field a larger study as mandated by Congress. The VAIW pilot project will ensure that the survey instrument and approach used for NIJ's planned data collection are methodologically rigorous and fully responsive to Congressional mandate and to the needs of American Indian and Alaska Native communities.

(5) An estimate of the total number of respondents and the amount of time estimated for an average respondent to respond: It is estimated that 225 respondents will complete the survey within 1 hour.

(6) An estimate of the total public burden (in hours) associated with the collection: There are an estimated 225 total annual burden hours associated with this collection.

If additional information is required contact: Lynn Murray, Department Clearance Officer, Policy and Planning Staff, Justice Management Division, U.S. Department of Justice, Two Constitution Square, 145 N Street, NE., Room 2E-808, Washington, DC 20530.

Dated: April 25, 2011.
Lynn Murray,
Department Clearance Officer, PRA, U.S. Department of Justice.

[FR Doc. 2011-10358 Filed 4-28-11; 8:45 am]

BILLING CODE 4410-18-P